ADMINISTRATIVE CONFERENCE OF THE UNITED STATES

Notice of Public Meetings of Committees of the Administrative Conference of the United States

AGENCY: Administrative Conference of the United States.

ACTION: Notice of public meetings.

SUMMARY: Notice is hereby given of eight public meetings: two meetings each for the Committee on Administration and Management, Committee on Collaborative Governance, Committee on Judicial Review, and Committee on Regulation of the Assembly of the Administrative Conference of the United States. At these meetings, the committees will consider reports by Conference consultants and work on preparing recommendations.

DATES: Committee on Administration and Management: Tuesday, September 25, 2012 from 9:30 a.m. to 12:30 p.m. and Wednesday, October 24, 2012, from 2 p.m. to 5 p.m. Committee on Collaborative Governance: Thursday, September 20, 2012 from 3 p.m. to 5 p.m. and Monday, October 15, 2012, from 2 p.m. to 4:30 p.m. Committee on Judicial Review: Wednesday, October 3, 2012 from 2 p.m. to 5 p.m. and Wednesday, October 17, 2012 from 2 p.m. to 5 p.m. Committee on Regulation: Monday, September 24, 2012 from 2 p.m. to 5 p.m. and Monday, October 22, 2012 from 2 p.m. to 5 p.m.

ADDRESSES: The meetings will be held at 1120 20th Street NW., Suite 706 South, Washington, DC 20036.

FOR FURTHER INFORMATION CONTACT: Emily Bremer (Committee on Administration and Management), David Pritzker (Committee on Collaborative Governance), Stephanie Tatham (Committee on Judicial Review), or Reeve Bull (Committee on Regulation), Designated Federal Officers, Administrative Conference of the United States, 1120 20th Street NW., Suite 706 South, Washington, DC 20036; Telephone 202-480-2080; Email ebremer@acus.gov,dpritzker@acus.gov, statham@acus.gov, or rbull@acus.gov.

SUPPLEMENTARY INFORMATION: Complete details regarding the committee meetings, the nature of the projects, how to attend (including information about remote access and obtaining special accommodations for persons with disabilities), and how to submit comments to each committee can be found on the Conference's Web site, at http://www.acus.gov. Click on “Research,” then on “Committee Meetings.”

Comments may be submitted by email to Comments@acus.gov, with the name of the appropriate committee in the subject line, or by postal mail to the appropriate committee at the address given above.

Committee on Administration and Management

The Committee on Administration and Management will meet to discuss a draft report on the Inflation Adjustment for Civil Penalties Project. The report, prepared by Professor Jim Chen (University of Louisville Louis D. Brandeis School of Law), presents the findings of a study on the Federal Civil Penalties Inflation Adjustment Act and the general issue of inflation adjustments to federal civil monetary penalties. At its meetings, the Committee on Administration and Management will also consider a draft recommendation based on the consultant's report. Emily S. Bremer is the Designated Federal Officer for this committee. More information can be found in the “Research” section of the Conference's website, at http://www.acus.gov. Click on “Research,” then on “Conference Projects,” and then on “Inflation Adjustment for Civil Penalties.”

Committee on Collaborative Governance

The Committee on Collaborative Governance will meet to consider a draft report and recommendations on agency use of third-party inspections and certification (sometimes known as “third-party verification”). The Conference's consultant for this study is Professor Lesley K. McAllister (University of San Diego School of Law). A brief presentation may also be made in connection with the Conference's project to examine, describe and catalogue the agencies and other organizational entities of the federal executive establishment, including independent agencies. David M. Pritzker is the Designated Federal Officer for this committee. More information can be found in the “Research” section of the Conference's Web site, at http://www.acus.gov. Click on “Research,” then on “Conference Projects,” and then on “Third-Party Inspections and Certification” or “Federal Executive Establishment.”

Committee on Judicial Review

The Committee on Judicial Review will meet to discuss a revised draft report and recommendations for its project examining 28 U.S.C. 1500. The report, prepared by Emily S. Bremer (Administrative Conference Staff) and Jonathan R. Siegel (George Washington University), presents the findings of a study on the barrier to litigation imposed by Section 1500 as applied by federal courts. Stephanie J. Tatham is the Staff Counsel for this committee. At its meetings, the Committee on Judicial Review will also review a draft discussion outline and potential agency survey for the Conference's project on the “Administrative Record and Judicial Review of Informal Agency Proceedings.” Leland E. Beck (Federal Regulations Advisor) is the Conference's consultant on the project. More information on these projects can be found in the “Research” section of the Conference's Web site, at http://www.acus.gov. Click on “Research,” then on “Conference Projects,” and then on “Need for Reform of 28 U.S.C. 1500” or “Administrative Record and Judicial Review of Informal Agency Proceedings.” The Committee will also discuss an in-house research project by Stephanie J. Tatham examining the use of remand without vacatur in judicial review of agency decision-making.

Committee on Regulation

At the September 24 and October 22 meetings, the Committee on Regulation will consider a set of draft recommendations dealing with the Science in the Administrative Process project. The committee will consider recommendations proposed in a consultant report by Professor Wendy Wagner (University of Texas Law School) and additional input received at a September 10, 2012 workshop on agencies” use of science on which the Conference is collaborating with the National Academies. Reeve T. Bull is the Designated Federal Officer for this committee. More information can be found in the “Research” section of the Conference's Web site, at http://www.acus.gov. Click on “Research,” then on “Conference Projects,” and then on “Science in the Administrative Process.”

Dated: August 31, 2012.
Shawne C. McGibbon,
General Counsel.

[FR Doc. 2012-21965 Filed 9-4-12; 8:45 am]

BILLING CODE 6110-01-P